DEPARTMENT OF TRANSPORTATION

National Highway Traffic Safety Administration

[Docket No. NHTSA-2008-0185; Notice 1]

China Manufacturers Alliance, LLC, Receipt of Petition for Decision of Inconsequential Noncompliance

China Manufacturers Alliance, LLC (CMA), as importer of record for Dynacargo brand truck and bus radial tires manufactured by Shandong Jinyu Tyre Company Limited (Jinyu) has determined that certain tires manufactured during the period May 2007 through June 2008 do not fully comply with paragraph S6.5(d) of 49 CFR 571.119 (Federal Motor Vehicle Safety Standard (FMVSS) No. 119 New Pneumatic Tires for Motor Vehicles With a GVWR of More than 4,536 Kilograms (10,000 pounds) and Motorcycles. The affected tires were imported by CMA and sold to American Tire Distributors (ATD). CMA has filed an appropriate report pursuant to 49 CFR Part 573, Defect and Noncompliance Responsibility and Reports.

Pursuant to 49 U.S.C. 30118(d) and 30120(h) (see implementing rule at 49 CFR part 556), CMA has petitioned for an exemption from the notification and remedy requirements of 49 U.S.C. Chapter 301 on the basis that this noncompliance is inconsequential to motor vehicle safety.

This notice of receipt of CMA's petition is published under 49 U.S.C. 30118 and 30120 and does not represent any agency decision or other exercise of judgment concerning the merits of the petition.

Affected are approximately 2,537 size 235/75R17.5/16 Dynacargo brand load range H truck and bus tires manufactured during the period May 2007 through June 2008 with DOT date codes in the range 1407 through 2608. 1,153 ¹ of these tires are currently under the control of ATD and 1,384 have been sold to consumers.

¹ CMA's petition, which was filed under 49 CFR Part 556, requests an agency decision to exempt CMA as importer from the notification and recall responsibilities of 49 CFR Part 573 for all 2,537 of the affected tires. However, the agency cannot relieve ATD as distributer of the prohibitions on the sale, offer for sale, or introduction or delivery for introduction into interstate commerce of the noncompliant tires currently under its control. Those tires must be brought into conformance, exported, or destroyed.

Paragraph S6.5(d) of 49 CFR 571.119 requires in pertinent part:

S6.5 Tire markings. Except as specified in this paragraph, each tire shall be marked on each sidewall with the information specified in paragraphs (a) through (j) of this section. The markings shall be placed between the maximum section width (exclusive of sidewall decorations or curb ribs) and the bead on at least one sidewall, unless the maximum section width of the tire is located in an area which is not more than one-fourth of the distance from the bead to the shoulder of the tire. If the maximum section width falls within that area, the markings shall appear between the bead and a point one-half the distance from the bead to the shoulder of the tire, on at least one sidewall. The markings shall be in letters and numerals not less than 2 mm (0.078 inch) high and raised above or sunk below the tire surface not less that 0.4 mm (0.015 inch), except that the marking depth shall be not less than 0.25mm (0.010 inch) in the case of motorcycle tires. The tire identification and the DOT symbol labeling shall comply with part 574 of this chapter. Markings may appear on only one sidewall and the entire sidewall area may be used in the case of motorcycle tires and recreational, boat, baggage, and special trailer tires* * *

(d) The maximum load rating and corresponding inflation pressure of the tire, shown as follows:

(Mark on tires rated for single and dual load): Max load single __ kg (__ lb) at __ kPa (__ psi) cold. Max load dual __ kg (__ lb) at __ kPa (__ psi) cold.

(Mark on tires rated only for single load): Max load __ kg (_ lb) at __ kPa (__ psi) cold.

CMA explained that the subject tires are marketed with the correct maximum load rating and corresponding inflation pressure in both English and Metric units. The affected tires have English units on one sidewall and Metric units on the other sidewall. The noncompliance being that both English and Metric units do not both appear on each sidewall.

CMA stated that it believes the noncompliance is inconsequential to motor vehicle safety because correct maximum load rating and corresponding inflation pressure information is marked on each tire in both English and Metric units. Therefore, that information is readily available to anyone who uses the tires.

CMA requested that NHTSA consider its petition and grant an exemption from the recall requirements of the National Traffic and Motor Vehicle Safety Act on the basis that the noncompliance described above is inconsequential as it relates to motor vehicle safety.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance.

Interested persons are invited to submit written data, views, and arguments on this petition. Comments must refer to the docket and notice number cited at the beginning of this notice and be submitted by any of the following methods:

a. By mail addressed to: U.S. Department of Transportation, Docket Operations, M-30, West Building Ground Floor, Room W12-140, 1200 New Jersey Avenue, SE., Washington, DC 20590.

b. By hand delivery to U.S. Department of Transportation, Docket Operations, M-30, West Building Ground Floor, Room W12-140, 1200 New Jersey Avenue, SE., Washington, DC 20590. The Docket Section is open on weekdays from 10 a.m. to 5 p.m. except Federal Holidays.

c. Electronically: By logging onto the Federal Docket Management System (FDMS) Web site at http://www.regulations.gov/. Follow the online instructions for submitting comments. Comments may also be faxed to 1-202-493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000 (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: January 20, 2009.

Authority: 49 U.S.C. 30118, 30120: delegations of authority at CFR 1.50 and 501.8.

Issued on: December 15, 2008.
Claude H. Harris,
Director, Office of Vehicle Safety Compliance.

[FR Doc. E8-30136 Filed 12-18-08; 8:45 am]

BILLING CODE 4910-59-P